DEPARTMENT OF DEFENSE

Defense Finance and Accounting Service; Privacy Act of 1974; Systems of Records

AGENCY: Defense Finance and Accounting Service; DoD.

ACTION: Notice to amend a system of records.

SUMMARY: The Defense Finance and Accounting Service is amending a system of records notice to its existing inventory of record systems subject to the Privacy Act of 1974 (5 U.S.C. 552a), as amended.

DATES: This action will be effective without further notice on October 19, 2005, unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: September 12, 2005.
L.M. Bynum,
Alternate OSD Federal Register Liaison Officer, Department of Defense.

T7333

System name:

Travel Payment System (August 22, 2000, 65 FR 50973).

Changes:

* * * * *

Retention and disposal:

Delete entry and replace with “Records may be temporary in nature and destroyed when superseded, obsolete, no longer needed, or cut off at the end of the fiscal year and destroyed 6 years and 3 months after cutoff.”

* * * * *

T7333

System name:

Travel Payment System.

System location:

Defense Finance and Accounting Service, Finance Directorate (Travel Programs and Services Division), 1931 Jefferson Davis Highway, Room 416, Arlington, VA 22240-5291.

Categories of individuals covered by the system:

DoD civilian personnel; active, former, and retired military members; military reserve personnel; Army and Air National Guard personnel; Air Force Academy nominees, applicants, and cadets; dependents of military personnel; and foreign nationals residing in the United States in all receipt of competent government travel orders.

Categories of records in the system:

Travel vouchers and subvouchers; travel allowance payment lists; travel voucher or subvoucher continuation sheets; vouchers and claims for dependent travel and dislocation or trailer allowances; certificate of non-availability of government quarters and mess; multiple travel payments list; travel payment card; requests for fiscal information concerning transportation requests; bills of lading; meal tickets; public vouchers for fees and claim for reimbursement for expenditures on official business; claim for fees and mileage of witness; certifications for travel under classified orders; travel card envelopes; and statements of adverse effect utilization of government facilities.

Authority for maintenance of the system:

5 U.S.C. 301, Departmental Regulations; DoD 7000.14-R, Volume 9; and E.O. 9397 (SSN).

Purpose(s):

To provide a basis for reimbursing individuals for expenses incident to travel for official Government business purposes and to account for such payments.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Internal Revenue Service to provide information concerning the pay of travel allowances which are subject to federal income tax.

The ‘Blanket Routine Uses’ published at the beginning of the DFAS Compilation of system of records notices apply to this system.

Disclosure to consumer reporting agencies:

Disclosures pursuant to 5 U.S.C. 552a(b)(12) may be made from this system to ‘consumer reporting agencies’ as defined in the Fair Credit Reporting Act, 15 U.S.C. 1671a(f) of the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity for the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Records are maintained in file folders, card files, notebooks, binders, visible file binders, cabinets, magnetic tape, cassettes, and computer printouts.

Retrievability:

Retrieved by individual's name and/or Social Security Number.

Safeguards:

Records are accessed by person(s) responsible for servicing the record, and who are authorized to use the record system in the performance of their official duties. All individuals are properly screened and cleared for need-to-know. Additionally, at some Centers, records are in office buildings protected by guards and controlled by screening of personnel and registering of visitors.

Retention and disposal:

Records may be temporary in nature and destroyed when superseded, obsolete, no longer needed, or cut off at the end of the fiscal year and destroyed 6 years and 3 months after cutoff.

System manager(s) and address:

Director, Financial Services Directorate, Defense Finance and Accounting Service, Finance Directorate, 1931 Jefferson Davis Highway, Arlington, VA 22240-5291.

Notification procedure:

Individuals seeking to determine whether information about themselves is contained in this system of records should address written inquiries to the Director, Financial Services Directorate, Defense Finance and Accounting Service-Columbus Center, 4280 E. 5th Avenue, Building 6, Columbus, OH 43218-2317.

Individual should furnish full name, Social Security Number, current address, and other information verifiable from the record itself.

Record access procedures:

Individuals seeking access to information about themselves in this system of records should address written inquiries to the Director, Financial Services Directorate, Defense Finance and Accounting Service-Columbus Center, 4280 E. 5th Avenue, Building 6, Columbus, OH 43218-2317.

Individual should furnish full name, Social Security Number, current address, and other information verifiable from the record itself.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

Information is obtained from the individual traveler, related voucher documents, Defense Accounting Officers; and other DoD Components.

Exemptions claimed for the system:

None.

[FR Doc. 05-18569 Filed 9-16-05; 8:45 am]

BILLING CODE 5001-06-M